ENVIRONMENTAL PROTECTION AGENCY

[EPA-R04-OW-2011-0555; FRL-9660-8]

Public Water System Supervision Program Revision for the Commonwealth of Kentucky

AGENCY: Environmental Protection Agency (EPA).

ACTION: Notice of tentative approval.

SUMMARY: Notice is hereby given that the Commonwealth of Kentucky is revising its approved Public Water System Supervision Program. Kentucky has adopted the following rules: Public Notification Rule, Arsenic Rule, Radionuclides Rule, Long-Term 2 Enhanced Surface Water Treatment Rule, Lead and Copper Rule Short-Term Revisions, Stage 1 Disinfectants and Disinfection Byproduct Rule and the Stage 2 Disinfectants and Disinfection Byproduct Rule. The EPA has determined that Kentucky's rules are no less stringent than the corresponding federal regulations. Therefore, the EPA is tentatively approving this revision to the Commonwealth of Kentucky's Public Water System Supervision Program.

DATES: Any interested person may request a public hearing. A request for a public hearing must be submitted by May 18, 2012, to the Regional Administrator at the EPA, Region 4 address shown below. The Regional Administrator may deny frivolous or insubstantial requests for a hearing. However, if a substantial request for a public hearing is made by May 18, 2012, a public hearing will be held. If the EPA, Region 4 does not receive a timely and appropriate request for a hearing and the Regional Administrator does not elect to hold a hearing on his own motion, this determination shall become final and effective on May 18, 2012. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8:30 a.m. and 4:30 p.m., Monday through Friday, at the following offices: Kentucky Department for Environmental Protection, Division of Water, 200 Fair Oaks Lane, Fourth Floor, Frankfort, Kentucky 40601; and the U.S. Environmental Protection Agency, Region 4, Safe Drinking Water Branch, 61 Forsyth Street SW., Atlanta, Georgia 30303.

FOR FURTHER INFORMATION CONTACT: Brian Smith, EPA Region 4, Safe Drinking Water Branch, at the address given above, by telephone at (404) 562-9845, or at smith.brian@epa.gov.

Authority: Section 1413 of the Safe Drinking Water Act, as amended (1996), and 40 CFR part 142.

Dated: January 9, 2012.
Stan Meiburg,
Acting Regional Administrator, Region 4.

[FR Doc. 2012-9327 Filed 4-17-12; 8:45 am]

BILLING CODE 6560-50-P